COMMISSION ON CIVIL RIGHTS

Notice of Public Meeting of the Arizona Advisory Committee

AGENCY: U.S. Commission on Civil Rights.

ACTION: Announcement of public meeting on Subminimum Wages for Disabled Persons in Arizona.

SUMMARY: Notice is hereby given, pursuant to the provisions of the rules and regulations of the U.S. Commission on Civil Rights (Commission) and the Federal Advisory Committee Act (FACA) that a meetings of the Arizona Advisory Committee (Committee) to the Commission will be held at 9:30 a.m. to 3:00 p.m. (Mountain Time) Friday, October 18, 2019. The purpose of the briefing is for the Committee to receive testimony regarding Subminimum Wages for Disabled Persons.

DATES: The meeting will be held on Friday, October 18, 2019 at 9:30 a.m. to 3:30 p.m. MT.

ADDRESSES: Arizona State University, Sandra Day O'Connor College of Law; Room 544, 111 E. Taylor Street, Phoenix, AZ 85004.

FOR FURTHER INFORMATION CONTACT: David Barreras (DFO) at dbarreras@usccr.gov or (312) 353-8311.

SUPPLEMENTARY INFORMATION: Members of the public are entitled to make comments during the open period at the end of the meetings. Members of the public may also submit written comments; the comments must be received in the Regional Programs Unit within 30 days following the meeting. Written comments may be mailed to the Midwestern Regional Office, U.S. Commission on Civil Rights, 230 S Dearborn Street, Suite 2120, Chicago, IL 60604. They may be faxed to the Commission at (312) 353-8311, or emailed David Barreras at dbarreras@usccr.gov. Persons who desire additional information may contact the Regional Programs Unit at (312) 353-8311.

Records and documents discussed during the meeting will be available for public viewing prior to and after the meetings at https://facadatabase.gov/committee/meetings.aspx?cid=235. Please click on the “Meeting Details” and “Documents” links. Records generated from these meetings may also be inspected and reproduced at the Regional Programs Unit, as they become available, both before and after the meetings. Persons interested in the work of this Committee are directed to the Commission's website, https://www.usccr.gov, or may contact the Regional Programs Unit at the above email or street address.

Agenda

Opening Remarks and Introductions (9:30 a.m.-9:45 a.m.)

Panel 1: Government Perspectives (9:45 a.m.-10:45 a.m.)

Panel 2: Education, Research and Advocacy Perspectives (10:45 a.m.-11:30 a.m.)

Panel 3: Employer Perspectives (11:30 a.m.-12:15 p.m.)

Panel 4: Service Provider Perspectives (1:00 p.m.-1:45 p.m.)

Panel 5: Parent Perspectives (1:45 p.m.-2:30 p.m.)

Public Comments (2:30 p.m.-3:00 p.m.)

Adjournment

Dated: September 30, 2019.
David Mussatt,
Supervisory Chief, Regional Programs Unit.

[FR Doc. 2019-21614 Filed 10-3-19; 8:45 am]

BILLING CODE 6335-01-P